ENVIRONMENTAL PROTECTION AGENCY

[FRL-6842-9]

Agency Information Collection Activities; PCBs: Consolidated Reporting and Recordkeeping Requirements; Submission to OMB

AGENCY: Environmental Protection Agency (EPA).

ACTION: Notice of submission to OMB.

SUMMARY: In compliance with the Paperwork Reduction Act (44 U.S.C. 3501 et seq.), this document announces that the Information Collection Request (ICR) entitled: “PCBs: Consolidated Reporting and Recordkeeping Requirements” (EPA ICR No. 1446.07, OMB No. 2070-0112) has been forwarded to the Office of Management and Budget (OMB) for review and approval pursuant to the OMB procedures in 5 CFR 1320.12. The ICR, which is abstracted below, describes the nature of the information collection and its estimated cost and burden. The Agency is requesting that OMB renew for 3 years the existing approval for this ICR, which is scheduled to expire on October 31, 2001. A Federal Register notice announcing the Agency's intent to seek the renewal of this ICR and the 60-day public comment opportunity, requesting comments on the request and the contents of the ICR, was issued on January 10, 2000 (65 FR 1366). EPA received no comments on this ICR during the comment period.

DATES: Additional comments may be submitted on or before August 30, 2000.

ADDRESSES: Send comments, referencing EPA ICR No. 1446.07 and OMB Control No. 2070-0112, to the following addresses: Sandy Farmer, U.S. Environmental Protection Agency, Collection Strategies Division (Mail Code 2822), 1200 Pennsylvania Avenue, N.W., Washington, DC 20460; And to Office of Information and Regulatory Affairs, Office of Management and Budget (OMB), Attention: Desk Officer for EPA, 725 17th Street, NW., Washington, DC 20503.

FOR FURTHER INFORMATION CONTACT: Sandy Farmer at EPA by phone on (202) 260-2740, by e-mail: “farmer.sandy@epa.gov,” or download off the Internet at http://www.epa.gov/icr/icr.htm and refer to EPA ICR No. 1446.07.

SUPPLEMENTARY INFORMATION: Review Requested: This is a request to renew and consolidate currently approved information collections pursuant to 5 CFR 1320.12.

ICR Numbers: EPA ICR No. 1446.07; OMB Control No. 2070-0112.

Title: PCBs: Consolidated Reporting and Recordkeeping Requirements.

Abstract: Section 6(e)(1) of the Toxic Substances Control Act (TSCA), 15 U.S.C. 2605(e), directs EPA to regulate the marking and disposal of PCBs. Section 6(e)(2) bans the manufacturing, processing, distribution in commerce, and use of PCBs in other than a totally enclosed manner. Section 6(e)(3) establishes a process for obtaining exemptions from the prohibitions on the manufacture, processing, and distribution in commerce of PCBs. Since 1978, EPA has promulgated numerous rules addressing all aspects of the life cycle of PCBs as required by the statute. The regulations are intended to prevent the improper handling and disposal of PCBs and to minimize the exposure of human beings or the environment to PCBs. These regulations have been codified in the various subparts of 40 CFR part 761. There are approximately 100 specific reporting, third-party reporting, and recordkeeping requirements covered by 40 CFR part 761.

To meet its statutory obligations to regulate PCBs, EPA must obtain sufficient information to conclude that specified activities do not result in an unreasonable risk of injury to health or the environment. EPA uses the information collected under the 40 CFR part 761 requirements to ensure that PCBs are managed in an environmentally safe manner and that activities are being conducted in compliance with the PCB regulations. The information collected by these requirements will update the Agency's knowledge of ongoing PCB activities, ensure that individuals using or disposing of PCBs are held accountable for their activities, and demonstrate compliance with the PCB regulations. Specific uses of the information collected include determining the efficacy of a disposal technology; evaluating exemption requests and exclusion notices; targeting compliance inspections; and ensuring adequate storage capacity for PCB waste.

This ICR consolidates six separate existing ICRs that address PCB reporting and recordkeeping requirements. Detailed discussions of the existing ICRs and how their associated reporting and/or recordkeeping burdens have changed as a result of the final rule are found in the supporting statement for the information collection that is the subject of this notice.

Responses to the collection of information are mandatory (see 40 CFR part 761). Respondents may claim all or part of a document confidential. EPA will disclose information that is covered by a claim of confidentiality only to the extent permitted by, and in accordance with, the procedures in TSCA section 14 and 40 CFR part 2.

Burden Statement: The annual public reporting burden for this collection of information is estimated to average 0.57 hours per response for an estimated 1,300,240 respondents making one or more submissions of information annually. These estimates include the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information. No person is required to respond to a collection of information unless it displays a currently valid OMB control number. The OMB control numbers for these regulations are displayed in 40 CFR part 9.

Respondents/Affected Entities: Entities potentially affected by this action are companies that currently possess PCB Items, PCB-contaminated equipment, or other PCB waste.

Estimated Total No. of Respondents: 1,300,240.

Estimated Total Annual Respondent Burden: 741,261 hours.

Frequency of Collection: On occasion.

Changes in Burden Estimates: This consolidation of six existing ICRs, the burden for which totals 2,007,618 hours, will result in a net reduction of 1,266,357 hours. This reduction reflects numerous factors, including program changes and adjustments to the burdens of specific existing reporting or recordkeeping requirements, and is described in detail in the ICR.

According to the procedures prescribed in 5 CFR 1320.12, EPA has submitted this ICR to OMB for review and approval. Any comments related to the renewal of this ICR should be submitted within 30 days of this notice, as described above.

Dated: July 20, 2000.
Oscar Morales,
Director, Collection Strategies Division.

[FR Doc. 00-19256 Filed 7-28-00; 8:45 am]

BILLING CODE 6560-50-P